DEPARTMENT OF LABOR

Employment and Training Administration

[TA-W-83,133]

Alkco; A Subsidiary of Philips Lighting; Including Workers Whose Unemployment Insurance (UI) Wages Are Reported Through Genlyte Thomas Group, LLC; Including On-Site Leased Workers From BECO Group and Adecco; Franklin Park, Illinois; Amended Certification Regarding Eligibility To Apply for Worker Adjustment Assistance

In accordance with Section 223 of the Trade Act of 1974, as amended (“Act”), 19 U.S.C. 2273, the Department of Labor issued a Certification of Eligibility to Apply for Worker Adjustment Assistance on November 18, 2013, applicable to workers of Alkco, a subsidiary of Philips Lighting, including on-site leased workers from BECO Group and Adecco, Franklin Park, Illinois. The workers are engaged in activities related to the production of lighting fixtures. The notice was published in the Federal Register on December 10, 2013 (78 FR 74165).

At the request of a company official, the Department reviewed the certification for workers of the subject firm. New information from the company shows that some workers separated from employment at the Franklin Park, Illinois location of Alkco, a subsidiary of Philips Lighting had their wages reported through a separate unemployment insurance (UI) tax account under the name Genlyte Thomas Group, LLC.

Accordingly, the Department is amending this certification to include workers of the subject firm whose unemployment insurance (UI) wages are reported through Genlyte Thomas Group, LLC.

The intent of the Department's certification is to include all workers of the subject firm who were adversely affected by a shift in the production of lighting fixtures to a foreign country.

The amended notice applicable to TA-W-83,133 is hereby issued as follows:

All workers of Alkco, a subsidiary of Philips Lighting, including workers whose unemployment insurance (UI) wages are reported through Genlyte Thomas Group, LLC, including on-site leased workers from BECO Group and Adecco, Franklin Park, Illinois, who became totally or partially separated from employment on or after October 11, 2012, through November 18, 2015, and all workers in the group threatened with total or partial separation from employment on the date of certification through two years from the date of certification, are eligible to apply for adjustment assistance under Chapter 2 of Title II of the Trade Act of 1974, as amended.

Signed at Washington, DC, this 25th day of March 2014.
Michael W. Jaffe,
Certifying Officer, Office of Trade Adjustment Assistance.

[FR Doc. 2014-07751 Filed 4-7-14; 8:45 am]

BILLING CODE 4510-FN-P